DEPARTMENT OF DEFENSE

Department of the Navy

Notice of Intent to Prepare a Supplement to the Gulf of Alaska Navy Training Activities Environmental Impact Statement/Overseas Environmental Impact Statement and to Announce Public Scoping

AGENCY: Department of the Navy, DoD.

ACTION: Notice.

SUMMARY: Pursuant to section 102(2)(c) of the National Environmental Policy Act (NEPA) of 1969, as implemented by the Council on Environmental Quality Regulations (40 Code of Federal Regulations (CFR) parts 1500-1508), and Executive Order 12114, the Department of the Navy (DoN) announces its intent to prepare a supplement to the 2011 Gulf of Alaska Navy Training Activities Environmental Impact Statement (EIS)/Overseas Environmental Impact Statement (OEIS). The SEIS/OEIS will support authorization of incidental takes of marine mammals under the Marine Mammal Protection Act and incidental takes of threatened and endangered marine species, under the Endangered Species Act. These federal regulatory permits and authorizations expire in May 2016. The DoN will evaluate new, relevant information and incorporate that information into revised analyses where appropriate. The SEIS/OEIS will also analyze data using an acoustic model not available for the 2011 EIS/OEIS, the Navy Acoustics Effects Model, to estimate potential marine species effects.

The DoN has requested the National Marine Fisheries Service be a cooperating agency in preparation of this SEIS/OEIS pursuant to 40 CFR § 1501.6.

Dates and Addresses: Given that the DoN's Proposed Action and alternatives have not changed, public scoping meetings will not be held, but public comments will be accepted during the scoping period from January 16, 2013 to March 18, 2013. The DoN will accept scoping comments through the Web site and mail. Additional information concerning acceptance of scoping comments is available on the SEIS/OEIS web page located at: http://www.GOAEIS.com.

FOR FURTHER INFORMATION CONTACT: Mrs. Amy Burt, Naval Facilities Engineering Command, Northwest, 1101 Tautog Circle, Suite 203, Silverdale, Washington 98315-1101, Attn: GOA SEIS/OEIS Project Manager.

SUPPLEMENTARY INFORMATION: This SEIS/OEIS is a supplement to the 2011 Gulf of Alaska Navy Training Activities EIS/OEIS and Record of Decision. The SEIS/OEIS will be used to renew current regulatory permits and authorizations and to support U.S. Pacific Command, Northern Command, and Joint Task Force Commander training requirements to achieve and maintain Fleet readiness as required by Title 10 of the U.S. Code. The DoN's Proposed Action is to continue DoN training in the Gulf of Alaska as detailed under the Preferred Alternative in the 2011 EIS/OEIS, and implemented with the 2011 EIS/OEIS Record of Decision. The Proposed Action does not alter the DoN's original purpose and need or alternative analysis as discussed in the 2011 EIS/OEIS; therefore, the alternative analysis presented in the EIS/OEIS remains relevant and is not proposed to be reanalyzed in the SEIS/OEIS. The continued conduct of at-sea joint exercises in the Gulf of Alaska is needed to support the training of combat-capable naval forces. An SEIS/OEIS is considered to be the appropriate document as the DoN's Proposed Action may significantly impact or harm marine resources.

Resources that will be addressed due to the potential effects from the Proposed Action, new available scientific data, and modeling results will include, but are not limited to, marine mammals and threatened and endangered species.

The Gulf of Alaska (GOA) Navy Training Activities SEIS/OEIS Study Area consists of three components: (1) the GOA Temporary Maritime Activities Area, (2) U.S. Air Force over-land Special Use Airspace and air routes over the GOA and State of Alaska, and (3) U.S. Army training lands underlying Special Use Airspace. Collectively, for the purposes of the SEIS/OEIS, these areas are referred to as the Alaska Training Areas. The U.S. Air Force Special Use Airspace and U.S. Army training lands were previously analyzed for NEPA purposes under separate environmental documents and are not included in the analysis in this SEIS/OEIS but are included by reference.

The scoping process will be used to identify community concerns and local issues that will be addressed in the SEIS/OEIS. Federal agencies, Alaska Native Tribes, state agencies, local agencies, the public, and interested persons are encouraged to provide comments to the DoN to identify specific issues or topics of environmental concern. All comments, provided via the Web site or in writing via postal submission, will receive the same consideration during SEIS/OEIS preparation. Written comments must be postmarked, and Web site comments must be completed no later than March 18, 2013. Written comments should be mailed to: Mrs. Amy Burt, Naval Facilities Engineering Command, Northwest, 1101 Tautog Circle, Suite 203, Silverdale, Washington 98315-1101, Attn: GOA SEIS/OEIS Project Manager.

Dated: January 11, 2013.
C. K. Chiappetta,
Lieutenant Commander, Office of the Judge Advocate General, U.S. Navy, Federal Register Liaison Officer.

[FR Doc. 2013-00847 Filed 1-15-13; 8:45 am]

BILLING CODE 3810-FF-P